DEPARTMENT OF TRANSPORTATION

Surface Transportation Board

[STB Finance Docket No. 34176]

Western New York & Pennsylvania Railroad, LLC—Acquisition and Operation Exemption-Line of Northwest Pennsylvania Rail Authority

Western New York & Pennsylvania Railroad, LLC (WNYP), a Class III rail carrier, has filed a verified notice of exemption under 49 CFR 1150.41 to acquire and operate approximately 41.8 miles of rail line currently owned by Northwest Pennsylvania Rail Authority (Authority) and operated by Oil Creek & Titusville Lines, Inc. (OCTL).¹ The subject line extends between approximately milepost 102.3 at Meadville, PA, and approximately milepost 60.5 at Corry, PA, in Crawford and Erie Counties, PA. WNYP certifies that its projected annual revenues as a result of this transaction will not result in the creation of a Class I or Class II rail carrier, and further certifies that its projected annual revenues will not exceed $5 million.

¹ Pursuant to an agreement entered into between WNYP and OCTL, WYNP will simultaneously acquire OCTL's operating rights over the rail line. See Oil Creek and Titusville Lines-Meadville Division-Operation Exemption, STB Finance Docket No. 33371 (STB served Apr. 3, 1997) (notice of exemption for OCTL to operate the 41.8-mile rail line under an operating agreement with Authority).

The transaction was scheduled to be consummated on or after February 28, 2002, the effective date of the exemption.

If the verified notice contains false or misleading information, the exemption is void ab initio. Petitions to revoke the exemption under U.S.C. 10502(d) may be filed at any time. The filing of a petition to revoke will not automatically stay the transaction.

An original and 10 copies of all pleadings, referring to STB Finance Docket No. 34176, must be filed with the Surface Transportation Board, Office of the Secretary, Case Control Unit, 1925 K Street, NW., Washington, DC 20423-0001. In addition, a copy of each pleading must be served on Kevin M. Sheys, Kirkpatrick & Lockhart LLP, 1800 Massachusetts Avenue—2nd Floor, Washington, DC 20036.

Board decisions and notices are available on our Web site at www.stb.dot.gov.

Decided: March 11, 2002.
By the Board, David M. Konschnik, Director, Office of Proceedings.
Vernon A. Williams,
Secretary.

[FR Doc. 02-6309 Filed 3-14-02; 8:45 am]

BILLING CODE 4915-00-P